DEPARTMENT OF THE TREASURY

Alcohol and Tobacco Tax and Trade Bureau

27 CFR Part 19

Distilled Spirits Plants

CFR Correction

This rule is being published by the Office of the Federal Register to correct an editorial or technical error that appeared in the most recent annual revision of the Code of Federal Regulations.

In Title 27 of the Code of Federal Regulations, Parts 1 to 39, revised as of April 1, 2022, in section 19.230, in paragraph (d), reinstate the text as the third sentence to read as follows:

§ 19.230 Conditions requiring prepayment of taxes.

* * * * *

(d) * * * The proprietor must prepay the tax to the extent that a withdrawal would cause the outstanding tax liability to exceed the limits of coverage under the bond. * * *

* * * * *

[FR Doc. 2023-06295 Filed 3-23-23; 8:45 am]

BILLING CODE 0099-10-P